SMALL BUSINESS ADMINISTRATION

Data Collection Available for Public Comments

ACTION: 60-day notice and request for comments.

SUMMARY: The Paperwork Reduction Act (PRA) of 1995, requires federal agencies to publish a notice in the Federal Register to solicit public comments on each collection of information before submitting it to OMB for approval, and to allow 60 days for the public to provide comments. This notice complies with such requirements and announces SBA's proposal to conduct a survey of the small business owners or potential owners who receive counseling and training through SBA's Women's Business Center (WBC) program.

DATES: Submit comments on or before January 23, 2018.

ADDRESSES: Send all comments to Scott Henry, Director, Office of Performance Management, Small Business Administration, 409 3rd Street SW., Room 6010, Washington, DC 20416.

FOR FURTHER INFORMATION CONTACT: Scott Henry, Director, Office of Performance Management 202-205-6474, wbcsurvey@sba.gov or Curtis B. Rich, Management Analyst, 202-205-7030 curtis.rich@sba.gov.

SUPPLEMENTARY INFORMATION: The SBA's Women's Business Centers represent a national network of nearly 100 educational centers designed to assist women start and grow small businesses. WBCs operate with the mission to “level the playing field” for women entrepreneurs, who still face unique obstacles in the world of business. Through the management and technical assistance provided by the WBCs, entrepreneurs (especially women who are economically or socially disadvantaged) are offered comprehensive training and counseling on a variety of topics in many languages to help them start and grow their own businesses. The SBA plans to conduct a web-based survey to understand to what degree the Agency's WBC programs and services help entrepreneurs start, manage and grow businesses. The survey will help determine customer satisfaction and the outcomes of the delivered business assistance services. Surveys will be completed by a sample of clients who received business assistance services at least one year ago. A minimum one year lag is desired to allow the business outcomes of the services to be observed. Because Women's Business Center offer both training and counseling services, clients who received either service will be included.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

Title: SBA's Women's Business Center (WBC) Client Survey.

Description of Respondents: WBC clients who received entrepreneurship counseling and/or training services.

Estimated Number of Respondents: 1,145.

Estimated Annual Hour Burden: 1,496.

Curtis Rich,
Management Analyst.

[FR Doc. 2017-25388 Filed 11-22-17; 8:45 am]

BILLING CODE 8025-01-P